FEDERAL HOUSING FINANCE BOARD

[No. 2005-N-05]

Federal Home Loan Bank Members Selected for Community Support Review

AGENCY: Federal Housing Finance Board.

ACTION: Notice.

SUMMARY: The Federal Housing Finance Board (Finance Board) is announcing the Federal Home Loan Bank (Bank) members it has selected for the 2004-05 seventh quarter review cycle under the Finance Board's community support requirements regulation. This notice also prescribes the deadline by which Bank members selected for review must submit Community Support Statements to the Finance Board.

DATES: Bank members selected for the review cycle under the Finance Board's community support requirements regulation must submit completed Community Support Statements to the Finance Board on or before November 28, 2005.

ADDRESSES: Bank members selected for the 2004-05 seventh quarter review cycle under the Finance Board's community support requirements regulation must submit completed Community Support Statements to the Finance Board either by regular mail at the Federal Housing Finance Board, Office of Supervision, Community Investment and Affordable Housing, 1625 Eye Street NW., Washington, DC 20006, or by electronic mail at FITZGERALDE@FHFB.GOV.

FOR FURTHER INFORMATION CONTACT: Emma J. Fitzgerald, Program Analyst, Office of Supervision, Community Investment and Affordable Housing, by telephone at 202-408-2874, by electronic mail at FITZGERALDE@FHFB.GOV, or by regular mail at the Federal Housing Finance Board, 1625 Eye Street NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the November 28, 2005 deadline prescribed in this notice. 12 CFR 944.2(b)(1)(ii) and (c). On or before October 31, 2005, each Bank will notify the members in its district that have been selected for the 2004-05 seventh quarter community support review cycle that they must complete and submit to the Finance Board by the deadline a Community Support Statement. 12 CFR 944.2(b)(2)(i). The member's Bank will provide a blank Community Support Statement Form, which also is available on the Finance Board's Web site: WWW.FHFB.GOV. Upon request, the member's Bank also will provide assistance in completing the Community Support Statement.

The Finance Board has selected the following members for the 2004-05 seventh quarter community support review cycle:

Federal Home Loan Bank of Boston—District 1
Balboa Reinsurance Company | Calabasas | California
First New England Federal Credit Union | East Hartford | Connecticut
Ledge Light Federal Credit Union | Groton | Connecticut
Eastern Federal Bank | Norwich | Connecticut
Putnam Savings Bank | Putnam | Connecticut
Connecticut Community Bank, N.A. | Westport | Connecticut
Merrill Merchants Bank | Bangor | Maine
St. Joseph's Credit Union | Biddeford | Maine
Seaboard Federal Credit Union | Bucksport | Maine
The First, National Association | Damariscotta | Maine
Union Trust Company | Ellsworth | Maine
NorState Federal Credit Union | Madawaska | Maine
Norway Savings Bank | Norway | Maine
University Credit Union | Orono | Maine
Infinity Federal Credit Union | Portland | Maine
Belmont Savings Bank | Belmont | Massachusetts
University Credit Union | Boston | Massachusetts
Greenfield Savings Bank | Greenfield | Massachusetts
The Lenox National Bank | Lenox | Massachusetts
Enterprise Bank and Trust Company | Lowell | Massachusetts
Butler Bank | Lowell | Massachusetts
Northmark Bank | North Andover | Massachusetts
RTN Federal Credit Union | Waltham | Massachusetts
Westborough Bank | Westborough | Massachusetts
Commerce Bank & Trust Company | Worcester | Massachusetts
ChittendenTrust Company | Burlington | Vermont
New England Federal Credit Union | Williston | Vermont
Federal Home Loan Bank of New York—District 2
Affinity Federal Credit Union | Basking Ridge | New Jersey
Boardwalk Bank | Linwood | New Jersey
Millville Savings and Loan Association | Millville | New Jersey
Hudson City Savings Bank | Paramus | New Jersey
Cenlar FSB | Trenton | New Jersey
Llewellyn-Edison Savings Bank, FSB | West Orange | New Jersey
Bank of Akron | Akron | New York
SEFCU | Albany | New York
Putnam County Savings Bank | Brewster | New York
Ponce De Leon Federal Bank | Bronx | New York
First American International Bank | Brooklyn | New York
First State Bank | Canisteo | New York
Flushing Savings Bank | Flushing | New York
American Community Bank | Glen Cove | New York
Gouverneur Savings & Loan Association | Gouverneur | New York
Bank Leumi USA | New York | New York
Great Eastern Bank | New York | New York
HSBC Bank, USA | Rochester | New York
WCTA Federal Credit Union | Sodus | New York
Power Federal Credit Union | Syracuse | New York
Wyoming County Bank | Warsaw | New York
Community Mutual Savings Bank | White Plains | New York
Kraft Foods Federal Credit Union | White Plains | New York
Hudson Valley Bank | Yonkers | New York
Firstbank Puerto Rico | Santurce | Puerto Rico
Bank of St. Croix | Christiansted | Virgin Islands
Federal Home Loan Bank of Pittsburgh—District 3
Wilmington Trust Company | Wilmington | Delaware
Lehman Brothers Bank, FSB | Wilmington | Delaware
AIG Federal Savings Bank | Wilmington | Delaware
Nazareth National Bank | Bethlehem | Pennsylvania
First Columbia Bank & Trust Company | Bloomsburg | Pennsylvania
Fidelity Savings and Loan Association of Bucks County | Bristol | Pennsylvania
Citizens Savings Association | Clarks Summit | Pennsylvania
CSB Bank | Curwensville | Pennsylvania
The Fidelity Deposit & Discount Bank | Dunmore | Pennsylvania
The First National Bank in Fleetwood | Fleetwood | Pennsylvania
Swineford National Bank | Hummels Wharf | Pennsylvania
S & T Bank | Indiana | Pennsylvania
Jonestown Bank and Trust Company | Jonestown | Pennsylvania
Commercial Bank of Pennsylvania | Latrobe | Pennsylvania
Lafayette Ambassador Bank | LeHigh Valley | Pennsylvania
Susquehanna Bank | Lititz | Pennsylvania
Members 1st Federal Credit Union | Mechanicsburg | Pennsylvania
The First National Bank of Mercersburg | Mercersburg | Pennsylvania
The Juniata Valley Bank | Mifflintown | Pennsylvania
Mid Penn Bank | Millersburg | Pennsylvania
Royal Bank of Pennsylvania | Narberth | Pennsylvania
Atlantic Credit Union | Newtown Square | Pennsylvania
Merck, Sharp & Dohme Federal Credit Union | North Wales | Pennsylvania
St. Edmond's Federal Savings Bank | Philadelphia | Pennsylvania
Port Richmond Savings | Philadelphia | Pennsylvania
Dwelling House Savings and Loan Association | Pittsburgh | Pennsylvania
Citadel Federal Credit Union | Thorndale | Pennsylvania
The Turbotville National Bank | Turbotville | Pennsylvania
Woodlands Bank | Williamsport | Pennsylvania
Summit Community Bank | Charleston | West Virginia
The United Federal Credit Union | Morgantown | West Virginia
First National Bank of Romney | Romney | West Virginia
Jefferson Security Bank | Shepherdstown | West Virginia
Steel Works Community Federal Credit Union | Weirton | West Virginia
Ameribank | Welch | West Virginia
Federal Home Loan Bank of Atlanta—District 4
Compass Bank | Birmingham | Alabama
First National Bank of Shelby County | Columbiana | Alabama
Peoples Bank of North Alabama | Cullman | Alabama
Bank of Dadeville | Dadeville | Alabama
The Peoples Bank of Coffee County | Elba | Alabama
First Southern Bank | Florence | Alabama
Citizens Bank & Savings Company | Russellville | Alabama
Troy Bank & Trust Company | Troy | Alabama
Security Bank | Tuscaloosa | Alabama
State Bank and Trust | Winfield | Alabama
IDB—IIC Federal Credit Union | Washington | D.C.
United States Senate Federal Credit Union | Washington | D.C.
Gibraltar Bank, FSB | Coral Gables | Florida
Merchants and Southern Bank | Gainesville | Florida
Ocala National Bank | Ocala | Florida
Bankers Insurance Company | St. Petersburg | Florida
Suncoast Schools Federal Credit Union | Tampa | Florida
Citrus Bank, N.A. | Vero Beach | Florida
First Choice Credit Union | West Palm Beach | Florida
Flag Bank | Atlanta | Georgia
CDC Federal Credit Union | Atlanta | Georgia
Bank of Camilla | Camilla | Georgia
PlantersFirst | Cordele | Georgia
Southeastern Bank | Darien | Georgia
Colony Bank of Dodge County | Eastman | Georgia
United Bank and Trust Company | Gainesville | Georgia
The Gordon Bank | Gordon | Georgia
Citizens Community Bank | Hahira | Georgia
Georgia State Bank | Mableton | Georgia
Pelham Banking Company | Pelham | Georgia
The Bank of Perry | Perry | Georgia
The Savannah Bank, N.A. | Savannah | Georgia
Bank of Thomas County | Thomasville | Georgia
The Park Avenue Bank | Valdosta | Georgia
Oconee State Bank | Watkinsville | Georgia
The Patterson Bank | Waycross | Georgia
The First National Bank of Waynesboro | Waynesboro | Georgia
Fullerton Federal Savings Association | Baltimore | Maryland
Kosciuszko Federal Savings Bank | Baltimore | Maryland
Bradford Bank | Baltimore | Maryland
Johns Hopkins Federal | Baltimore | Maryland
First Mariner Bank | Baltimore | Maryland
Midstate Federal Savings & Loan Association | Baltimore | Maryland
The Washington Savings Bank, F.S.B. | Bowie | Maryland
The Centreville National Bank of Maryland | Centreville | Maryland
The Columbia Bank | Columbia | Maryland
County Banking and Trust Company | Elkton | Maryland
The Bank of Glen Burnie | Glen Burnie | Maryland
Cedar Point Federal Credit Union | Lexington Park | Maryland
Sandy Spring Bank | Olney | Maryland
BUCS Federal Bank | Owings Mills | Maryland
Prince George's Federal Savings Bank | Upper Marlboro | Maryland
Belmont Federal Savings and Loan Association | Belmont | North Carolina
Black Mountain Savings Bank, S.S.B. | Black Mountain | North Carolina
Coastal Federal Credit Union | Raleigh | North Carolina
Security Savings Bank, SSB | Southport | North Carolina
Bank of North Carolina | Thomasville | North Carolina
Clover Community Bank | Clover | South Carolina
The Peoples National Bank | Easley | South Carolina
Carolina First Bank | Greenville | South Carolina
Williamsburg First National Bank | Kingstree | South Carolina
Provident Community Bank | Union | South Carolina
Arthur State Bank | Union | South Carolina
Union Bank & Trust Company | Bowling Green | Virginia
The First National Bank of Christiansburg | Christiansburg | Virginia
The National Bank of Fredericksburg | Fredericksburg | Virginia
Bank of McKenney | McKenney | Virginia
Greater Atlantic Bank | Reston | Virginia
Farmers and Merchants Bank | Timberville | Virginia
Federal Home Loan Bank of Cincinnati—District 5
Union National Bank & Trust Company | Barbourville | Kentucky
Bank of Benton | Benton | Kentucky
Taylor County Bank | Campbellsville | Kentucky
First Federal Savings Bank | Cynthiana | Kentucky
First Federal Savings Bank of Elizabethtown | Elizabethtown | Kentucky
Commonwealth Community Bank | Hartford | Kentucky
The Citizens Bank | Hickman | Kentucky
The First State Bank | Irvington | Kentucky
Whitaker Bank, NA | Lexington | Kentucky
Cumberland Valley National Bank and Trust Company | London | Kentucky
Inez Deposit Bank, FSB | Louisa | Kentucky
River City Bank | Louisville | Kentucky
Fifth Third Bank Kentucky, Inc | Louisville | Kentucky
Green River Bank | Morgantown | Kentucky
Citizens Bank of New Liberty | New Liberty | Kentucky
Citizens National Bank of Paintsville | Paintsville | Kentucky
West Point Bank | Radcliff | Kentucky
Sebree Deposit Bank | Sebree | Kentucky
The Peoples Bank | Taylorsville | Kentucky
United Bank & Trust Company | Versailles | Kentucky
The Farmers & Merchants State Bank | Archbold | Ohio
The Citizens Bank of Ashville | Ashville | Ohio
The Caldwell Savings and Loan Company | Caldwell | Ohio
CINCO Federal Credit Union, Inc | Cincinnati | Ohio
The Pioneer Savings Bank | Cleveland | Ohio
Century Federal Credit Union | Cleveland | Ohio
Clyde-Findlay Area Credit Union | Clyde | Ohio
First Federal Savings and Loan Association of | Delta | Ohio
Ohio Central Savings | Dublin | Ohio
The Croghan Colonial Bank | Fremont | Ohio
First Service Federal Credit Union | Groveport | Ohio
The Killbuck Savings Bank Company | Killbuck | Ohio
First National Bank of New Holland | New Holland | Ohio
The Old Fort Banking Company | Old Fort | Ohio
Cornerstone Bank | Springfield | Ohio
The Security National Bank and Trust Company | Springfield | Ohio
Peoples Savings Bank of Troy | Troy | Ohio
The First National Bank of Wellston | Wellston | Ohio
The Wayne Savings Community Bank | Wooster | Ohio
First Federal Savings Bank | Clarksville | Tennessee
The Bank/First Citizens Bank | Cleveland | Tennessee
Peoples Bank | Clifton | Tennessee
Bank of Dickson | Dickson | Tennessee
The Home Bank | Ducktown | Tennessee
Security Bank | Dyersburg | Tennessee
Greeneville Federal Bank, fsb | Greeneville | Tennessee
Citizens Bank | Hartsville | Tennessee
Citizens Bank of Blount County | Maryville | Tennessee
National Bank of Commerce | Memphis | Tennessee
The Bank of Moscow | Moscow | Tennessee
ORNL Federal Credit Union | Oak Ridge | Tennessee
Merchants & Planters Bank | Toone | Tennessee
AEDC Federal Credit Union | Tullahoma | Tennessee
Federal Home Loan Bank of Indianapolis—District 6
Hendricks County Bank and Trust Company | Brownsburg | Indiana
First Farmers Bank & Trust Company | Converse | Indiana
First National Bank of Dana | Dana | Indiana
Star Financial Bank | Fort Wayne | Indiana
Professional Federal Credit Union | Fort Wayne | Indiana
Springs Valley Bank & Trust Company | French Lick | Indiana
Garrett State Bank | Garrett | Indiana
Griffith Savings Bank | Griffith | Indiana
Indiana Members Credit Union | Indianapolis | Indiana
Eli Lilly Federal Credit Union | Indianapolis | Indiana
First National Bank & Trust | Kokomo | Indiana
Dearborn SA, FA | Lawrenceburg | Indiana
Farmers State Bank | Mentone | Indiana
The North Salem State Bank | North Salem | Indiana
Tri-County Bank & Trust Company | Roachdale | Indiana
Central Bank | Russiaville | Indiana
Teachers Credit Union | South Bend | Indiana
Bank of Lenawee | Adrian | Michigan
University Bank | Ann Arbor | Michigan
The Blissfield State Bank | Blissfield | Michigan
Byron Center State Bank | Byron Center | Michigan
CSB Bank | Capac | Michigan
Exchange State Bank | Carsonville | Michigan
First National Bank | Crystal Falls | Michigan
The State Savings Bank | Frankfort | Michigan
First National Bank of Gaylord | Gaylord | Michigan
LSI Credit Union | Grand Rapids | Michigan
First Community Bank | Harbor Springs | Michigan
Republic Bank | Lansing | Michigan
G.W. Jones Exchange Bank | Marcellus | Michigan
Shelby State Bank | Shelby | Michigan
ChoiceOne Bank | Sparta | Michigan
Independent Bank East Michigan | Troy | Michigan
Federal Home Loan Bank of Chicago—District 7
GreatBank | Algonquin | Illinois
State Bank of the Lakes | Antioch | Illinois
First National Bank | Ava | Illinois
Town & Country Bank | Buffalo | Illinois
Farmers State Bank of Hoffman | Centralia | Illinois
International Bank of Chicago | Chicago | Illinois
First East Side Savings Bank | Chicago | Illinois
Illinois Service FS&LA | Chicago | Illinois
Park Federal Savings Bank | Chicago | Illinois
First Bank of the Americas | Chicago | Illinois
American Union Savings and Loan Association | Chicago | Illinois
Builders Bank | Chicago | Illinois
LaSalle Bank N.A. | Chicago | Illinois
The PrivateBank and Trust Company | Chicago | Illinois
Selfreliance Ukranian American Federal Credit | Chicago | Illinois
First National Bank | Chicago Heights | Illinois
Cissna Park State Bank | Cissna Park | Illinois
GreatBank, N.A. | Evanston | Illinois
The Peoples National Bank of McLeansboro | Fairfield | Illinois
National Bank | Hillsboro | Illinois
Community Trust Bank | Irvington | Illinois
First Midwest Bank | Itasca | Illinois
Midwest Bank of Western Illinois | Monmouth | Illinois
The Bank of Illinois in Normal | Normal | Illinois
Hemlock Federal Bank for Savings | Oak Forest | Illinois
Palos Bank and Trust Company | Palos Heights | Illinois
Citizens Equity First Credit Union | Peoria | Illinois
First National Bank in Pinckneyville | Pinckneyville | Illinois
Pontiac National Bank-Peoples Bank | Pontiac | Illinois
First Bankers Trust Company, N.A. | Quincy | Illinois
First National Bank of Raymond | Raymond | Illinois
AMCORE Bank N.A. | Rockford | Illinois
Cole Taylor Bank | Skokie | Illinois
The First National Bank in Toledo | Toledo | Illinois
Busey Bank | Urbana | Illinois
Fox Communities Credit Union | Appleton | Wisconsin
Peoples State Bank | Augusta | Wisconsin
First National Bank & Trust Company | Beloit | Wisconsin
Citizens State Bank | Cadott | Wisconsin
Denmark State Bank | Denmark | Wisconsin
Security National Bank | Durand | Wisconsin
Union Bank and Trust Company | Evansville | Wisconsin
State Bank of La Crosse | La Crosse | Wisconsin
Trane Federal Credit Union | La Crosse | Wisconsin
Park Bank | Madison | Wisconsin
Capitol Bank | Madison | Wisconsin
Premier Community Bank | Marion | Wisconsin
Bay View Federal Savings and Loan Association | Milwaukee | Wisconsin
Farmers Savings Bank | Mineral Point | Wisconsin
Alliance Bank | Mondovi | Wisconsin
The Necedah Bank | Necedah | Wisconsin
Farmers Exchange Bank | Neshkoro | Wisconsin
Hometown Bank | St. Cloud | Wisconsin
Community State Bank | Union Grove | Wisconsin
Federal Home Loan Bank of Des Moines—District 8
Quad City Bank and Trust Company | Bettendorf | Iowa
Exchange State Bank | Collins | Iowa
NCMIC Insurance Company | Des Moines | Iowa
Security Savings Bank | Eagle Grove | Iowa
Iowa State Bank and Trust Company | Fairfield | Iowa
First Bank and Trust Company | Glidden | Iowa
American National Bank | Holstein | Iowa
Home State Bank | Jefferson | Iowa
Security Savings Bank | Larchwood | Iowa
Farmers & Merchants Savings Bank | Manchester | Iowa
Pinnacle Bank | Marshalltown | Iowa
Northwoods State Bank | Mason City | Iowa
First Citizens National Bank | Mason City | Iowa
Pilot Grove Savings Bank | Pilot Grove | Iowa
Frontier Bank | Rock Rapids | Iowa
Citizens State Bank | Sheldon | Iowa
First National Bank | Shenandoah | Iowa
Morningside Bank & Trust | Sioux City | Iowa
First Bank | West Des Moines | Iowa
GuideOne Specialty Mutual Insurance Company | West Des Moines | Iowa
Security Bank Minnesota | Albert Lea | Minnesota
First Security Bank | Byron | Minnesota
Miners National Bank | Eveleth | Minnesota
Premier Bank | Maplewood | Minnesota
Peoples State Bank of Plainview | Plainview | Minnesota
United Prairie Bank-Slayton | Slayton | Minnesota
First Security Bank—Sleepy Eye | Sleepy Eye | Minnesota
BankCherokee | St. Paul | Minnesota
First National Bank in Wadena | Wadena | Minnesota
Wadena State Bank | Wadena | Minnesota
Mississippi County Savings & Loan Association | Charleston | Missouri
First Security State Bank | Charleston | Missouri
Peoples Bank | Cuba | Missouri
The Citizens Bank of Edina | Edina | Missouri
Century Bank of the Ozarks | Gainesville | Missouri
The Hamilton Bank | Hamilton | Missouri
Farmers & Merchants Bank & Trust Company | Hannibal | Missouri
Premier Bank | Jefferson City | Missouri
B & L Bank | Lexington | Missouri
Bank of Minden | Mindenmines | Missouri
Bank of Cairo and Moberly | Moberly | Missouri
St. Clair County State Bank | Osceola | Missouri
Platte Valley Bank of Missouri | Platte City | Missouri
Farmers State Bank of Northern Missouri | Savannah | Missouri
Central Bank of Missouri | Sedalia | Missouri
Citizens National Bank of Springfield | Springfield | Missouri
Mid-Missouri Bank | Springfield | Missouri
Great Southern Bank | Springfield | Missouri
Gate City Bank | Fargo | North Dakota
State Bank of Alcester | Alcester | South Dakota
First American Bank & Trust, National Association | Sioux Falls | South Dakota
Federal Home Loan Bank of Dallas—District 9
First Federal Bank of AR, FA | Harrison | Arkansas
Simmons First Bank of Jonesboro | Jonesboro | Arkansas
Simmons First Bank of Russellville | Russellville | Arkansas
Chambers Bank of North Arkansas | Springdale | Arkansas
Warren Bank & Trust Company | Warren | Arkansas
Mississippi River Bank | Belle Chasse | Louisiana
Citizens Savings Bank | Bogalusa | Louisiana
Homeland Federal Savings Bank | Columbia | Louisiana
Peoples State Bank | Many | Louisiana
City Bank & Trust Company | Natchitoches | Louisiana
First Bank and Trust | New Orleans | Louisiana
ANECA Federal Credit Union | Shreveport | Louisiana
Bank of Anguilla | Anguilla | Mississippi
Guaranty Bank and Trust Company | Belzoni | Mississippi
Heritage Banking Group | Carthage | Mississippi
First National Bank of Clarksdale | Clarksdale | Mississippi
Cleveland Community Bank SSB | Cleveland | Mississippi
Bank of Forest | Forest | Mississippi
Hancock Bank | Gulfport | Mississippi
Merchants and Farmers Bank | Kosciusko | Mississippi
PriorityOne Bank | Magee | Mississippi
First National Bank of Picayune | Picayune | Mississippi
The Peoples Bank | Ripley | Mississippi
First National Bank in Alamogordo | Alamogordo | New Mexico
New Mexico Educators Federal Credit Union | Albuquerque | New Mexico
First State Bank, NM | Albuquerque | New Mexico
Ranchers Banks | Belen | New Mexico
University Federal Credit Union | Austin | Texas
Citizens National Bank at Brownwood | Brownwood | Texas
Columbus State Bank | Columbus | Texas
Texas Community Bank & Trust | Dallas | Texas
Graham Savings & Loan, FA | Graham | Texas
MemberSource Credit Union | Houston | Texas
American State Bank | Lubbock | Texas
American Bank of Texas, N.A. | Marble Falls | Texas
First Bank & Trust of Memphis | Memphis | Texas
Liberty National Bank in Paris | Paris | Texas
Security State Bank | Pearsall | Texas
HCSB, a state banking association | Plainview | Texas
Share Plus Federal Bank | Plano | Texas
1st International Bank | Plano | Texas
Legacy Bank of Texas | Plano | Texas
First Community Bank, N.A. | San Benito | Texas
Peoples State Bank | Sheperd | Texas
Texas Savings Bank, s.s.b. | Snyder | Texas
Mainland Bank | Texas City | Texas
Texas Star Bank | Van Alstyne | Texas
Herring Bank | Vernon | Texas
Federal Home Loan Bank of Topeka—District 10
Bank of Colorado | Fort Collins | Colorado
Alpine Bank | Glenwood Springs | Colorado
First National Bank of Las Animas | Las Animas | Colorado
FirstBank of Arapahoe County | Littleton | Colorado
Mancos Valley Bank | Mancos | Colorado
The Pueblo Bank and Trust Company | Pueblo | Colorado
High Country Bank | Salida | Colorado
Community National Bank | Chanute | Kansas
Fidelity State Bank and Trust Company | Dodge City | Kansas
Armed Forces Bank | Fort Leavenworth | Kansas
First National Bank and Trust Company | Junction City | Kansas
First State Bank of Kansas City, Kansas | Kansas City | Kansas
Heartland Bank | Leawood | Kansas
Premier Bank | Lenexa | Kansas
Metcalf Bank | Overland Park | Kansas
TeamBank, N.A. | Paola | Kansas
Community National Bank | Seneca | Kansas
Mid American Credit Union | Wichita | Kansas
Five Points Bank | Grand Island | Nebraska
First State Bank | Lincoln | Nebraska
First National Bank & Trust Company of Minden | Minden | Nebraska
FCE Credit Union | Omaha | Nebraska
Plattsmouth State Bank | Plattsmouth | Nebraska
The Jones National Bank & Trust Company | Seward | Nebraska
First National Bank of Wahoo | Wahoo | Nebraska
Vision Bank | Ada | Oklahoma
Community National Bank | Alva | Oklahoma
Alva State Bank & Trust Company | Alva | Oklahoma
American National Bank | Ardmore | Oklahoma
Oklahoma Employees Credit Union | Bethany | Oklahoma
First Bank Centre | Broken Arrow | Oklahoma
Bank of Commerce | Catoosa | Oklahoma
Farmers and Merchants Bank | Crescent | Oklahoma
The Eastman National Bank of Newkirk | Newkirk | Oklahoma
The FNB&TC of Okmulgee | Okmulgee | Oklahoma
First State Bank | Picher | Oklahoma
F & M Bank, NA | Piedmont | Oklahoma
McClain Bank, NA | Purcell | Oklahoma
Tinker Federal Credit Union | Tinker AFB | Oklahoma
SpiritBank | Tulsa | Oklahoma
Oklahoma Central Credit Union | Tulsa | Oklahoma
Welch State Bank | Welch | Oklahoma
Federal Home Loan Bank of San Francisco—District 11
Mesa Bank | Mesa | Arizona
Camelback Community Bank | Phoenix | Arizona
Desert Schools Federal Credit Union | Phoenix | Arizona
Southern Arizona Community Bank | Tucson | Arizona
Bank of Tucson | Tucson | Arizona
Cathay Bank | Los Angeles | California
CBC Federal Credit Union | Oxnard | California
Stanford Federal Credit Union | Palo Alto | California
Gateway Bank, AFSB | San Leandro | California
Chinatrust Bank (U.S.A.) | Torrance | California
Visalia Community Bank | Visalia | California
Bank of Walnut Creek | Walnut Creek | California
Community Bank of Nevada | Las Vegas | Nevada
Ensign Federal Credit Union | Las Vegas | Nevada
Northern Nevada Bank | Reno | Nevada
Federal Home Loan Bank of Seattle—District 12
Hawaii USA Federal Credit Union | Honolulu | Hawaii
Idaho Banking Company | Boise | Idaho
Farmers National Bank | Buhl | Idaho
Citizens State Bank | Hamilton | Montana
Valley Bank of Kalispell | Kalispell | Montana
Mountain West Bank of Kalispell, N.A. | Kalispell | Montana
First National Bank of Montana, Inc. | Libby | Montana
First Technology Credit Union | Beaverton | Oregon
Bank of the Cascades | Bend | Oregon
Siuslaw Bank | Eugene | Oregon
Portland Area Community Employees CU | Portland | Oregon
Umpqua Bank | Roseburg | Oregon
Clackamas County Bank | Sandy | Oregon
Lewiston State Bank | Lewiston | Utah
First National Bank of Morgan | Morgan | Utah
Goldenwest Credit Union | Ogden | Utah
Bank of Utah | Ogden | Utah
Western Community Bank | Orem | Utah
American Bank of Commerce | Provo | Utah
Escrow Bank USA | Salt Lake City | Utah
First Utah Bank | Salt Lake City | Utah
Heritage Bank | St. George | Utah
North County Bank | Arlington | Washington
Industrial Credit of Whatcom County | Bellingham | Washington
Cashmere Valley Bank | Cashmere | Washington
Mt. Rainier National Bank | Enumclaw | Washington
EverTrust Bank | Everett | Washington
Northwest Plus Credit Union | Everett | Washington
Rainier Pacific Bank | Fife | Washington
First Savings Bank of Renton | Renton | Washington
Watermark Credit Union | Seattle | Washington
Verity Credit Union | Seattle | Washington
First Heritage Bank | Snohomish | Washington
Horizon Credit Union | Spokane | Washington
American National Bank | Cheyenne | Wyoming
Warren Federal Credit Union | Cheyenne | Wyoming
State Bank of Green River | Green River | Wyoming
Bank of Jackson Hole | Jackson | Wyoming
Central Bank & Trust | Lander | Wyoming
North Side State Bank | Rock Springs | Wyoming
Sheridan State Bank | Sheridan | Wyoming
First Federal Savings Bank | Sheridan | Wyoming

II. Public Comments

To encourage the submission of public comments on the community support performance of Bank members, on or before October 31, 2005, each Bank will notify its Advisory Council and nonprofit housing developers, community groups, and other interested parties in its district of the members selected for community support review in the 2004-05 seventh quarter review cycle. 12 CFR 944.2(b)(2)(ii). In reviewing a member for community support compliance, the Finance Board will consider any public comments it has received concerning the member. 12 CFR 944.2(d). To ensure consideration by the Finance Board, comments concerning the community support performance of members selected for the 2004-05 seventh quarter review cycle must be delivered to the Finance Board on or before the November 28, 2005 deadline for submission of Community Support Statements.

Dated: October 5, 2005.
John P. Kennedy,
General Counsel.

[FR Doc. 05-20351 Filed 10-13-05; 8:45 am]

BILLING CODE 6725-01-P